DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Call Monitoring of National Suicide Prevention Lifeline Form—NEW

The Substance Abuse and Mental Health Services Administration's (SAMHSA), Center for Mental Health Services has funded a National Suicide Prevention Lifeline Network, consisting of a single toll-free telephone number that routes calls from anywhere in the United States to a network of local crisis centers. In turn, the local centers link callers to local emergency, mental health, and social service resources.

To ensure quality, the vast majority of crisis centers conduct on-site monitoring of selected calls by supervisors or trainers using unobtrusive listening devices. To monitor the quality of calls and to inform the development of training for networked crisis centers, the National Suicide Prevention Lifeline proposes to remotely monitor calls routed to seven crisis centers during the shifts of consenting staff. The procedure will be anonymous, in that neither staff nor callers will be identified on the Call Monitoring Form. The monitor, a trained crisis worker, will code the type of problem presented by the caller, the elements of a suicide risk assessment that are completed by the crisis worker, as well as what action plan is developed with and/or what referral(s) are provided to the caller. No centers will be identified in reports.

During the shifts of consenting crisis staff, a recording will inform callers that some calls may be monitored for quality assurance purposes. Previous comparisons of matched centers that did and did not play the recording found no difference in hang-up rates before the calls were answered or within the first 15 seconds of the calls.

The seven centers to be monitored will be selected based on the geographic regions(s) they serve. Once a center has agreed to participate, the crisis workers will be provided an Informed Consent Form describing the purpose and procedures of the monitoring process and inviting them to participate. The Form also informs workers that they are free to participate or not, that they may withdraw their acceptance to participate at any time, and that if they choose not to participate, no calls during their shift will be monitored.

A total of 180 calls will be monitored during the first 5-month period. One year later, an additional 360 calls will be monitored, yielding a total of 540 monitored calls.

The estimated annual response burden to collect this information is as follows:

Instrument | Number of respondents | Responses/ respondent | Burden/response (hours) | Annual burden (hours)
Informed Consent Form | 180 | 1 | .07 | 13
National Suicide Prevention Lifeline—Call Monitoring Form | 180 | 3 | .33 | 178
Total | 180 |  |  | 191

Send comments to Summer King, SAMHSA Reports Clearance Officer, Room 7-1045, 1 Choke Cherry Road, Rockville, MD 20850. Written comments should be received by July 5, 2005.

Dated: April 29, 2005.
Anna Marsh,
Executive Officer, SAMHSA.

[FR Doc. 05-9059 Filed 5-5-05; 8:45 am]

BILLING CODE 4162-20-P